DEPARTMENT OF DEFENSE

Office of the Secretary

Proposed Collection, Comment Request

AGENCY: Office of the Assistant Secretary of Defense for Health Affairs, DoD.

ACTION: Notice.

In accordance with Section 3506(c) of the Paperwork Reduction Act of 1995, the Office of the Assistant Secretary of Defense for Health Affairs announces the proposed reinstatement of a public information collection and seeks public comment on the provisions thereof. Comments are invited on: (a) whether the proposed extension of collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Considerations will be given to all comments received April 17, 2000.

ADDRESSES: Written comments and recommendations on the proposed information collection should be sent to TRICARE Management Activity—Aurora, Office of Appeals and Hearings, 16401 E. Centretech Pkwy, ATTN: Donald F. Wagner, Aurora, CO 80011-9043.

FOR FURTHER INFORMATION CONTACT: To request more information on this proposed information collection, please write to the above address or call TRICARE Management Activity, Office of Appeals and Hearings at (303) 676-3411.

Title, Associated Form, and OMB Number: Professional Qualifications Medical/Peer Reviewers, CHAMPUS Form 780, OMB Number 0720-0005.

Needs and Uses: The information collection requirement is necessary to obtain and record the professional qualifications of medical and peer reviewers utilized within CHAMPUS. The form is included as an exhibit in an appeal or hearing case file as evidence of the reviewer's professional qualifications to review the medical documentation contained in the case file.

Affected Public: Business or other for-profit.

Annual Burden Hours: 15.

Annual Number of Respondents: 60.

Responses per Respondent: 1.

Average Burden per Response: 15 minutes.

Frequency: On occasion.

SUPPLEMENTARY INFORMATION:

Summary of Information Collection

Respondents are medical professionals who provide medical and peer review of cases appealed to the Office of Appeals and Hearings, TRICARE Management Activity. CHAMPUS Form 780 records the professional qualifications of the medical/peer reviewers. The completed form is included as an exhibit in the appeal or hearing case file, and documents for anyone reviewing the file, the professional qualifications of the medical professional who review the case. If the form is not included in the case file, individuals reviewing the file will not have ready access to the qualifications of the reviewing medical professional. Having qualified professionals provide medical and peer review is essential in maintaining the integrity of the appeal and hearing process.

February 11, 2000.
Patricia L. Toppings,
Alternate OSD Federal Register Liaison Officer, Department of Defense.

[FR Doc. 00-3736 Filed 2-16-00; 8:45 am]

BILLING CODE 5001-10-M